DEPARTMENT OF ENERGY

Federal Energy Regulatory Commission

[Docket No. EL08-70-000]

Canandaigua Power Partners, LLC, Complainant, v. New York Independent System Operator, Inc. Respondent; Notice of Complaint

June 18, 2008.

Take notice that on June 17, 2008, Canandaigua Power Partners, LLC (CPP) filed this complaint pursuant to Rule 206 of the Commission's Rules of Practice and Procedure and section 206 of the Federal Power Act, 16 U.S.C. 824e, seeking an order requiring the New York Independent System Operator, Inc. (NYISO) to interpret its Open Access Transmission Tariff (Tariff) to create a Headroom account for certain system protection facilities that are qualifying System Upgrade Facilities under its Tariff. In the alternative, CPP ask that the Commission find that the Tariff is unjust, unreasonable and unduly burdensome and the NYISO must make a Tariff filing implementing changes to Tariff Attachment S to properly calculate, credit and assess Headroom to system protection facilities under the NYISO's cost allocation process.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of Respondent's answer, protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 7, 2008.

Kimberly D. Bose,
Secretary.

[FR Doc. E8-14450 Filed 6-25-08; 8:45 am]

BILLING CODE 6717-01-P